DEPARTMENT OF ENERGY

Federal Energy Regulatory Commission

[Docket No. RP04-136-000]

Iroquois Gas Transmission System, L.P.; Notice of Proposed Changes in FERC Gas Tariff

January 7, 2004.

Take notice that on January 2, 2004, Iroquois Gas Transmission System, L.P. (Iroquois) tendered for filing as part of its FERC Gas Tariff, First Revised Volume No. 1, Original Sheet No. 4C, proposed to become effective on February 2, 2004.

Iroquois states that the proposed changes would increase revenues from service on Iroquois' Eastchester Extension Project (Eastchester Project) by $16,990,556 million, based on the 12-month period ended September 30, 2003, as adjusted for changes projected to occur through June 30, 2004.

Iroquois states that the purpose of its filing is to establish incremental rates for the Eastchester Project, and resulting secondary access rates to Eastchester capacity from Iroquois' existing, non-expansion system. Iroquois further states that its rate filing is consistent with the Commission's directives in the Eastchester certificate orders in Docket No. CP00-232, and with section 1.2 of Iroquois' August 29, 2003, rate settlement in Docket No. RP03-589. Additionally, Iroquois states that the proposed rate increase is necessary to recover the higher actual costs of constructing the Eastchester Project, as well as allocated administrative and general costs, direct operation and maintenance costs, taxes, depreciation expense based on Iroquois' approved transportation depreciation rate, and an adequate return on its investment.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-64 Filed 01-14-04; 8:45 am]

BILLING CODE 6717-01-P